ENVIRONMENTAL PROTECTION AGENCY

[EPA-HQ-OPP-2014-0446; FRL-9922-66-OEI]

Information Collection Request Submitted to OMB for Review and Approval; Comment Request; Certification of Pesticide Applicators (Renewal)

AGENCY: Environmental Protection Agency (EPA).

ACTION: Notice.

SUMMARY: The Environmental Protection Agency has submitted an information collection request (ICR), “Certification of Pesticide Applicators (Renewal)” (EPA ICR No. 0155.12, OMB Control No. 2070-0029) to the Office of Management and Budget (OMB) for review and approval in accordance with the Paperwork Reduction Act (44 U.S.C. 3501 et seq.). This is a proposed revision of the ICR, which is currently approved through February 28, 2015. Public comments were previously requested via the Federal Register (79 FR 43039) on July 24, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 27, 2015.

ADDRESSES: Submit your comments, referencing Docket ID Number EPA-HQ-OPP-2014-0446, to (1) EPA online using www.regulations.gov (our preferred method), by email to OPP_Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Lily G. Negash, Office of Pesticide Programs, Field & External Affairs Division, 7605P, Environmental Protection Agency, 1200 Pennsylvania Ave. NW., Washington, DC 20460; telephone number: 703-347-8515; fax number: 703-305-5884; email address: negash.lily@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The Environmental Protection Agency (EPA) administers certification programs for pesticide applicators under section 11 of the Federal Insecticide, Fungicide, and Rodenticide Act (FIFRA). FIFRA allows EPA to classify a pesticide as “restricted use” if the pesticide meets certain toxicity or risk criteria. Due to the potential of improperly applied restricted use pesticides (RUPs) to harm human health or the environment, pesticides under this classification may be purchased and applied only by “certified applicators” or by persons under the direct supervision of certified applicators. The completion of a certification program or test is required in order to become a certified applicator.

Personally identifying information (PII) is collected in the process of certifying individuals to apply RUPs as private or commercial applicators. This information is collected to differentiate between individuals sharing the same names and is subject to Agency-wide security requirements governing all Privacy Act database systems at EPA.

Form Numbers: EPA Form 8500-17 and EPA Form 8500-17-N.

Respondents/affected entities: Registrants, commercial and private applicators, and dealers of restricted use pesticides; Indian tribes and State regulators.

Respondent's obligation to respond: Mandatory (FIFRA Sections 3 & 11).

Estimated number of respondents: 421,000 (total).

Frequency of response: On occasion.

Total estimated burden: 1,320,254 hours (per year). Burden is defined at 5 CFR 1320.03(b).

Total estimated cost: $42,637,865 (per year), includes $0 annualized capital or operation & maintenance costs.

Changes in the Estimates: There is a decrease of 415 hours in the total estimated respondent burden compared with the ICR currently approved by OMB. This net decrease is due to EPA's updates to burden estimates, addition of a recently-implemented optional, voluntary offering, and a change in the number of entities whose certification programs are directly overseen by EPA. This change is both an adjustment and the result of a program change.

Courtney Kerwin,
Acting Director, Collection Strategies Division.

[FR Doc. 2015-03864 Filed 2-24-15; 8:45 am]

BILLING CODE 6560-50-P